DEPARTMENT OF HEALTH AND HUMAN SERVICES

Centers for Medicare & Medicaid Services

Privacy Act of 1974; Computer Matching Program (Match No. 2001-04)

AGENCY: Department of Health and Human Services (HHS), Centers for Medicare & Medicaid Services (CMS).

ACTION: Notice of computer matching program.

SUMMARY: In accordance with the requirements of the Privacy Act of 1974, as amended, this notice announces the establishment of a computer-matching program that CMS plans to conduct with the Department of Defense (DoD). We have provided background information about the proposed matching program in the Supplementary Information section below. Although the Privacy Act requires only that CMS provide an opportunity for interested persons to comment on the proposed matching program, CMS invites comments on all portions of this notice. See Effective Dates section below for comment period.

EFFECTIVE DATES: CMS filed a report of the Computer Matching Program with the Chair of the House Committee on Government Reform and Oversight, the Chair of the Senate Committee on Governmental Affairs, and the Administrator, Office of Information and Regulatory Affairs, Office of Management and Budget (OMB) on April 30, 2004. We will not disclose any information under a matching agreement until 40 days after filing a report to OMB and Congress or 30 days after publication. We may defer implementation of this matching program if we receive comments that persuade us to defer implementation.

ADDRESSES: The public should address comments to: Director, Division of Privacy Compliance Data Development (DPCDD), Enterprise Databases Group, Office of Information Services (OIS), CMS, Mail stop N2-04-27, 7500 Security Boulevard, Baltimore, Maryland 21244-1850. Comments received will be available for review at this location, by appointment, during regular business hours, Monday through Friday from 9 a.m.-3 p.m., eastern time zone.

FOR FURTHER INFORMATION CONTACT: Maribel Franey, Health Insurance Specialist, DPCDD, Enterprise Databases Group, OIS, CMS, Mail stop N2-04-27, 7500 Security Boulevard, N2-04-06, Baltimore, Maryland 21244-1850. The telephone number is (410) 786-0757, or facsimile (410) 786-5636.

SUPPLEMENTARY INFORMATION:

I. Description of the Matching Program

A. General

The Computer Matching and Privacy Protection Act (CMPPA) of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 100-508) further amended the Privacy Act regarding protections for such individuals. The Privacy Act, as amended, regulates the use of computer matching by Federal agencies when records in a system of records are matched with other Federal, State, or local government records. It requires Federal agencies involved in computer matching programs to:

1. Negotiate written agreements with the other agencies participating in the matching programs;

2. Obtain the Data Integrity Boards (DIB) approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act

CMS has taken action to ensure that all of the computer matches programs that this agency participates in comply with the requirements of the Privacy Act of 1974, as amended.

Dated: May 20, 2004.
Mark B. McClellan,
Administrator.

COMPUTER MATCH NO. 2001-04

NAME:

“Verification of TRICARE Eligibility”.

SECURITY CLASSIFICATION:

Level Three Privacy Act Sensitive.

PARTICIPATING AGENCIES:

Centers for Medicare & Medicaid Services (CMS); and Department of Defense (DoD).

AUTHORITY FOR CONDUCTING MATCHING PROGRAM:

This Computer Matching Agreement is executed to comply with the Privacy Act of 1974 (5 U.S.C. 552a), as amended, the Office of Management and Budget (OMB) Circular A-130, entitled “Management of Federal Information Resources” (61 FR 6435, February 20, 1996), and OMB guidelines pertaining to computer matching (54 FR 25818, June 19, 1989).

This agreement implements the information matching provisions of the National Defense Authorization Act (NDAA) for Fiscal Year (FY) 2001 (Public Law (Pub. L.) 106-398) §§ 711 and 712; the NDAA for FY 1993 (Pub. L. 102-484) § 705, and the NDAA for FY 1992 (Pub. L. 102-190 §§ 704 and 713).

PURPOSE (S) OF THE MATCHING PROGRAM:

The purpose of this agreement is to establish the conditions, safeguards and procedures under which CMS will disclose Medicare Part A entitlement and Part B enrollment information to the Department of Defense (DoD), Defense Manpower Data Center (DMDC), Defense Enrollment and Eligibility Reporting System Office (DEERS), and the Office of the Assistant Secretary of Defense (Health Affairs) / TRICARE Management Activity (TMA). This disclosure will provide TMA with the information necessary to determine if an individual is eligible to receive extended TRICARE coverage.

Current law requires TMA to provide health care and medical benefits to Medicare eligible beneficiaries who are enrolled in the medical insurance program under Part B of the Medicare program. In order for TMA to meet these requirements, CMS agrees to disclose Part A entitlement and Part B enrollment data on this dual eligible population, which will be used to determine a beneficiary's eligibility for care under TRICARE. DEERS will receive the results of the computer match and provide the information provided to TMA for use in its program.

CATEGORIES OF RECORDS AND INDIVIDUALS COVERED BY THE MATCH:

DEERS will furnish CMS with an electronic file on a monthly basis extracted from DEERS' system of records identified as S322.50, entitled “Defense Eligibility Records (DER),” containing social security numbers (SSN) and date of birth for all DoD eligible beneficiaries whom may also be eligible for Medicare benefits. CMS will match the DEERS file against its “Enrollment Database (EDB)” system of records (formerly known as the Health Insurance Master Record), System No. 09-70-0502, and will validate the identification of the beneficiary by providing the Health Insurance Claims Number (HICN) that matches against the SSN and date of birth provided by DEERS. CMS will also provide the Medicare Part A entitlement and Part B enrollment status of the beneficiary. CMS's data will help TMA to determine a beneficiary's eligibility for care under TRICARE. DEERS will receive the results of the computer match and provide the information provided in the reply file to TMA for use in its program.

INCLUSIVE DATES OF THE MATCH:

The Computer Matching Program shall become effective no sooner than 40 days after the report of the Matching Program is sent to OMB and Congress, or 30 days after publication in the Federal Register, which ever is later. The matching program will continue for 18 months from the effective date and may be extended for an additional 12 months thereafter, if certain conditions are met.

[FR Doc. 04-11937 Filed 5-25-04; 8:45 am]

BILLING CODE 4120-03-P